DEPARTMENT OF AGRICULTURE

Animal and Plant Health Inspection Service

9 CFR Part 77

[Docket No. APHIS-2006-0004]

Tuberculosis in Cattle and Bison; State and Zone Designations; Minnesota

AGENCY: Animal and Plant Health Inspection Service, USDA.

ACTION: Affirmation of interim rule as final rule.

SUMMARY: We are adopting as a final rule, without change, an interim rule that amended the bovine tuberculosis regulations regarding State and zone classifications by removing Minnesota from the list of accredited-free States and adding it to the list of modified accredited advanced States. The interim rule was necessary to help prevent the spread of tuberculosis because Minnesota no longer met the requirements for accredited-free State status.

DATES: Effective on August 30, 2006, we are adopting as a final rule the interim rule that became effective on January 24, 2006.

FOR FURTHER INFORMATION CONTACT: Dr. Michael Dutcher, Senior Staff Veterinarian, National Tuberculosis Eradication Program, Eradication and Surveillance Team, National Center for Animal Health Programs, VS, APHIS, 4700 River Road Unit 43, Riverdale, MD 20737-1231; (301) 734-5467.

SUPPLEMENTARY INFORMATION:

Background

In an interim rule ¹ effective January 24, 2006, and published in the Federal Register on January 30, 2006 (71 FR 4808-4810, Docket No. APHIS-2006-0004), we amended the bovine tuberculosis regulations regarding State and zone classifications contained in 9 CFR part 77 by removing Minnesota from the list of accredited-free States in § 77.7 and adding it to the list of modified accredited advanced States in § 77.9. The interim rule was necessary to help prevent the spread of tuberculosis because Minnesota no longer met the requirements for accredited-free State status.

¹ To view the interim rule and the comments we received, go to http://www.regulations.gov, click on the “Advanced Search” tab, and select “Docket Search.” In the Docket ID field, enter APHIS-2006-0004, then click on “Submit.” Clicking on the Docket ID link in the search results page will produce a list of all documents in the docket.

Comments on the interim rule were required to be received on or before March 31, 2006. We received two comments by that date. The comments were from private citizens. One commenter stated that no animals should ever be moved interstate, but did not comment specifically on the reclassification of Minnesota as a modified accredited advanced State. A second commenter, responding to the first, stated support for the interim rule. We are making no changes in response to these comments.

Therefore, for the reasons given in the interim rule and in this document, we are adopting the interim rule as a final rule without change.

This action also affirms the information contained in the interim rule concerning Executive Order 12866 and the Regulatory Flexibility Act, Executive Orders 12372 and 12988, and the Paperwork Reduction Act.

Further, for this action, the Office of Management and Budget has waived its review under Executive Order 12866.

List of Subjects in 9 CFR Part 77

Animal diseases, Bison, Cattle, Reporting and recordkeeping requirements, Transportation, Tuberculosis.

PART 77—TUBERCULOSIS

Accordingly, we are adopting as a final rule, without change, the interim rule that amended 9 CFR part 77 and that was published at 71 FR 4808-4810 on January 30, 2006.

Done in Washington, DC, this 24th day of August 2006.
Kevin Shea,
Acting Administrator, Animal and Plant Health Inspection Service.

[FR Doc. E6-14481 Filed 8-29-06; 8:45 am]

BILLING CODE 3410-34-P